DEPARTMENT OF HEALTH AND HUMAN SERVICES

Centers for Disease Control and Prevention

[Program Announcement 04259]

Improving the Effectiveness of the Diagnosis and Treatment of Tuberculosis and Multi-Drug Resistant Tuberculosis in the Philippines; Notice of Intent To Fund Single Eligibility Award

A. Purpose

The Centers for Disease Control and Prevention (CDC) announces the intent to fund fiscal year (FY) 2004 funds for a cooperative agreement program to support and ensure the implementation of tuberculosis (TB) control activities that are designed to develop, establish, and coordinate systems and procedures to address the obstacles to achieving control of TB and multi-drug resistant tuberculosis (MDR-TB) in metropolitan Manila, the Philippines. The Catalog of Federal Domestic Assistance number for this program is 93.116.

B. Eligible Applicant

Assistance will be provided only to the Tropical Disease Foundation, Inc. (TDF) located in Manila, the Philippines. No other applications will be solicited.

The TDF is the only qualified organization that has the technical and administrative capacity to conduct the specific set of activities requested to support CDC TB and MDR-TB prevention and control activities in the Philippines under this cooperative agreement because:

1. The TDF is uniquely positioned, in terms of legal authority, ability, track record, infrastructure and credibility in the Philippines to develop and support TB and MDR-TB control activities in both public and non-governmental organization sites throughout the country.

2. The TDF has already established a framework and mechanisms to develop and implement TB and MDR-TB treatment and control activities in the Philippines, enabling it to immediately become engaged in the activities listed in this announcement.

3. The TDF has demonstrated its ability to coordinate and implement TB treatment and control activities including MDR-TB and TB/HIV co-infection within the country.

4. The TDF has a unique and unparalleled relationship with the Makati Medical Center (MMC), the Department of Health (DOH), NTP, the Tropical Disease Foundation (TDF), and the Philippines Coalition Against Tuberculosis (PhilCAT), based on a rich history of collaboration.

5. The TDF Directly Observed Treatment Short Course (DOTS) Clinic has been in existence since February 1999, in response to the need for public-private partnership in the management of TB patients in the Philippines. The clinic is a collaboration between the TDF and MMC.

6. The TDF was approved as the first pilot project worldwide to undertake DOTS-Plus by the Green Light Committee (GLC), a subgroup of the Scientific Working Group on Multi-Drug Resistant Tuberculosis of the WHO. The MMC DOTS-Plus clinic is the only facility in the Philippines providing treatment to MDR-TB patients.

7. The TDF has the ability to collect information, train staff and advocate for policy based on the experiences learned implementing DOTS-Plus activities.

8. The specific services that the TDF will deliver are directly associated with, and compliment, other ongoing CDC prevention strategies and activities in the Philippines.

C. Funding

Approximately $110,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: (770) 488-2700.

For program technical assistance, contact: Dr. Charles Wells, Project Officer, Division of Tuberculosis Elimination, National Center for HIV, STD, and TB Prevention, Centers for Disease Control and Prevention (CDC), 1600 Clifton Road Mailstop E-10, Atlanta, Georgia 30333, Telephone: (404) 639-8485, E-mail: cwells@cdc.gov.

For budget assistance, contact: Steward Nichols, Grants Management Specialist, CDC Procurement and Grants Office, 2920 Brandywine Road, Atlanta, Georgia 30341, Telephone: (770) 488-2788, E-mail: SNichols1@cdc.gov.

Dated: July 29, 2004.
William P. Nichols,
Acting Director, Procurement and Grants Office, Centers for Disease Control and Prevention.

[FR Doc. 04-17860 Filed 8-4-04; 8:45 am]

BILLING CODE 4163-18-P